DEPARTMENT OF HOMELAND SECURITY

Coast Guard

33 CFR Part 117

[USCG-2013-0416]

Drawbridge Operation Regulations; Reynolds Channel, Lawrence, NY

AGENCY: Coast Guard, DHS.

ACTION: Notice canceling temporary deviation from regulations.

SUMMARY: The Coast Guard is canceling the temporary deviation from the regulations published on June 11, 2013, (78 FR 34893) governing the operation of the Atlantic Beach Bridge, mile 0.4, across Reynolds Channel, at Lawrence, New York. The owner of the bridge, Nassau County Bridge Authority, requested six, five hour closure periods, scheduled to occur during the effective period of the above temporary deviation. As a result of the bridge owner's recent request we must cancel the existing temporary deviation and issue a new temporary deviation to include the bridge closures.

DATES: The temporary deviation, (78 FR 34893), published on June 11, 2013, is cancelled as of August 31, 2013.

ADDRESSES: The docket for this deviation, [USCG-2013-0416] is available at http://www.regulations.gov. Type the docket number in the “SEARCH” box and click “SEARCH.” Click on Open Docket Folder on the line associated with this deviation. You may also visit the Docket Management Facility in Room W12-140 on the Ground Floor of the Department of Transportation West Building, 1200 New Jersey Avenue SE., Washington, DC 20590, between 9 a.m. and 5 p.m., Monday through Friday, except Federal holidays.

FOR FURTHER INFORMATION CONTACT: If you have questions on this rule, call or email Ms. Judy Leung-Yee, Project Officer, First Coast Guard District, telephone (212) 668-7165, email judy.k.leung-yee@uscg.mil. If you have questions on viewing the docket, call Barbara Hairston, Program Manager, Docket Operations, telephone 202-366-9826.

SUPPLEMENTARY INFORMATION:

A. Basis and Purpose

On June 11, 2013, we published a temporary deviation entitled “Drawbridge Operation Regulations; Reynolds Channel, Lawrence, NY”, in the Federal Register (78 FR 34893). The temporary deviation concerned was for the Atlantic Beach Bridge, across Reynolds Channel, mile 0.4, at Lawrence, New York. The owner of the bridge, Nassau County Bridge Authority, requested a temporary deviation for 176 days to facilitate electrical and structural rehabilitation at the bridge. This deviation from the operating regulations was authorized under 33 CFR 117.35.

B. Cancellation

Under the temporary deviation published on June 11, 2013, (78 FR 34893) the draw of the Atlantic Beach Bridge at mile 0.4, across Reynolds Channel was required to operate as follows:

(1) From June 9, 2013 through September 30, 2013, Monday through Friday, the draw may operate a single span on signal, every two hours, on the even hour, between 6 a.m. and 8 p.m. From 8 p.m. through 6 a.m. the draw may operate a single span on signal. On weekends and holidays from Friday at 8 p.m. through Monday at 6 a.m. the bridge shall open both spans every hour on the hour.

(2) From October 1, 2013 through December 1, 2013, the bridge shall operate a single span on signal at 6 a.m., 12 p.m., 4 p.m., and 8 p.m. and at any time between 8 p.m. and 6 a.m. The draw shall open both spans at all times for commercial vessel traffic after at least a 48 hour advance notice is given by calling the number posted at the bridge.

The bridge owner recently advised the Coast Guard that six, five hour, bridge closures would be necessary in order to facilitate the completion of the electrical and structural rehabilitation at the bridge. These closures cannot occur under the current temporary deviation.

As a result, the Coast Guard is cancelling the temporary deviation published on June 11, 2013 in the Federal Register (78 FR 34893) and will publish a new temporary deviation that will include the six, five hour, bridge closures.

Dated: August 29, 2013.
Gary Kassof,
Bridge Program Manager, First Coast Guard District.

[FR Doc. 2013-22270 Filed 9-12-13; 8:45 am]

BILLING CODE 9110-04-P